DEPARTMENT OF ENERGY

Federal Energy Regulatory Commission

Combined Notice of Filings

Take notice that the Commission has received the following Natural Gas Pipeline Rate and Refund Report filings:

Docket Numbers: RP17-724-000.

Applicants: Venice Gathering System, L.L.C.

Description: Report Filing: VGS Refund Report—Docket Nos. RP15-1237-000, RP16-975-000 and RP16-975-002 to be effective N/A.

Filed Date: 11/20/17.

Accession Number: 20171120-5033.

Comments Due: 5 p.m. ET 12/4/17.

Docket Numbers: RP18-181-000.

Applicants: Alliance Pipeline L.P.

Description: § 4(d) Rate Filing: Capacity Release Revisions—Nov 2017 to be effective 12/22/2017.

Filed Date: 11/22/17.

Accession Number: 20171122-5110.

Comments Due: 5 p.m. ET 12/4/17.

Docket Numbers: RP18-182-000.

Applicants: Northern Natural Gas Company.

Description: Petition for a Limited Waiver of Northern Natural Gas Company.

Filed Date: 11/22/17.

Accession Number: 20171122-5132.

Comments Due: 5 p.m. ET 12/5/17.

Docket Numbers: RP18-183-000.

Applicants: Enterprise Products Operating LLC, Tenaska Marketing Ventures.

Description: Joint Petition for Temporary Waiver of Capacity Release Regulations and Related Pipeline Tariff Provisions, et al. of Enterprise Products Operating LLC, et al.

Filed Date: 11/22/17.

Accession Number: 20171122-5133.

Comments Due: 5 p.m. ET 12/5/17.

Docket Numbers: RP18-184-000.

Applicants: Gas Transmission Northwest LLC.

Description: § 4(d) Rate Filing: GTN Hourly Services Filing to be effective 1/1/2018.

Filed Date: 11/27/17.

Accession Number: 20171127-5089.

Comments Due: 5 p.m. ET 12/11/17.

Docket Numbers: RP18-185-000.

Applicants: Algonquin Gas Transmission, LLC.

Description: § 4(d) Rate Filing: Negotiated Rates—ConEd to Next Utility—795426 & 795428 to be effective 11/28/2017.

Filed Date: 11/28/17.

Accession Number: 20171128-5015.

Comments Due: 5 p.m. ET 12/11/17.

Docket Numbers: RP18-186-000.

Applicants: Southern Star Central Gas Pipeline, Inc.

Description: Compliance filing Annual Cash-Out Activity Report 2017 to be effective N/A.

Filed Date: 11/28/17.

Accession Number: 20171128-5032.

Comments Due: 5 p.m. ET 12/11/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 28, 2017.
Nathaniel J. Davis, Sr.,
Deputy Secretary.

[FR Doc. 2017-26100 Filed 12-4-17; 8:45 am]

BILLING CODE 6717-01-P